DEPARTMENT OF THE INTERIOR

National Park Service

[NPS-MWR-CUVA-13282; PPMWMWROW2/PPMPSAS1Y.YP0000]

Notice of Availability of a Draft White-Tailed Deer Management Plan, Environmental Impact Statement, Cuyahoga Valley National Park, Ohio

AGENCY: National Park Service, Interior.

ACTION: Notice of availability.

SUMMARY: The National Park Service (NPS) announces the availability of the Draft White-tailed Deer Management Plan/Environmental Impact Statement (Plan/EIS), Cuyahoga Valley National Park (Park), Ohio.

DATES: The Draft Plan/EIS will remain available for public review and comment for 60 days following the publishing of the Notice of Availability in the Federal Register by the U.S. Environmental Protection Agency.

ADDRESSES: Copies of the Draft Plan/EIS may be picked up in-person or may be obtained by making a request in writing to Cuyahoga Valley National Park, 15610 Vaughn Road, Brecksville, Ohio 44141. A limited number of hard-copies will be available at the Park. The document is also available on the internet at the NPS Planning, Environment, and Public Comment Web site at: http://www.parkplanning.nps.gov/cuva.

FOR FURTHER INFORMATION CONTACT: Chief of the Resource Management Division Lisa Petit at the address above, or by telephone at (440) 546-5903.

SUPPLEMENTARY INFORMATION: The Draft Plan/EIS considers four alternatives for the management of white-tailed deer at the Park. Under Alternative A (No Action), existing management actions would continue, including deer and vegetation monitoring, data management, and research. No new actions would occur to reduce the effects of deer overbrowsing. Alternative B (Combined Non-lethal Actions) would include all actions described under Alternative A, and would incorporate a combination of nonlethal actions, including the construction of large-scale deer exclosures (fencing) for the purposes of forest regeneration. In addition, nonsurgical reproductive control of does would be used to restrict population growth when this technology meets certain criteria. Alternative C (Lethal Actions) would include all actions described under Alternative A, and would add lethal deer management actions (sharpshooting with firearms or capture and euthanasia of individual deer) to reduce the herd size.

Alternative D (Combined Lethal and Non-lethal Actions) is the NPS preferred alternative. Alternative D would include all actions described under Alternative A, and would incorporate a combination of lethal and nonlethal actions from Alternatives B and C. These actions would include the reduction of the deer herd through sharpshooting with firearms or capture and euthanasia and nonsurgical reproductive control of does with an acceptable reproductive control agent to maintain the population.

If you wish to comment on the Draft Plan/EIS, we encourage you to comment via the Internet at the address above, or mail comments directly to the Superintendent at the address above.

Before including your address, phone number, email address, or other personal identifying information in your comment, you should be aware that your entire comment (including your personal identifying information) may be made publicly available at any time. While you can ask us in your comment to withhold your personal identifying information from public review, we cannot guarantee that we will be able to do so. We will make all submissions from organizations or businesses, from individuals identifying themselves as representatives or officials, of organizations or businesses, available for public inspection in their entirety.

Dated: June 18, 2013.
Patricia S. Trap,
Deputy Regional Director, Midwest Region.

[FR Doc. 2013-18536 Filed 7-31-13; 8:45 am]

BILLING CODE 4310-MA-P